DEPARTMENT OF COMMERCE

National Oceanic and Atmospheric Administration

RIN 0648-XC744

Endangered and Threatened Species; Notice of Intent To Prepare a Recovery Plan for Pacific Eulachon

AGENCY: National Marine Fisheries Service, National Oceanic and Atmospheric Administration, Commerce.

ACTION: Notice of intent to prepare a recovery plan; request for information.

SUMMARY: The National Marine Fisheries Service (NMFS) is announcing its intent to prepare a recovery plan for Pacific eulachon (Thaleichthys pacificus) (eulachon) and requests information from the public. NMFS is required by the Endangered Species Act of 1973 (ESA), as amended to develop plans for the conservation and survival of federally listed species, i.e., recovery plans.

DATES: To allow adequate time to conduct a review of information submitted, all information must be received no later than August 2, 2013.

ADDRESSES: Information may be submitted by any of the following methods:

• Via email: EulachonRecovery.nwr@noaa.gov (No files larger than 5MB can be accepted).

• Via U.S. mail: Robert Anderson, National Marine Fisheries Service, 1201 NE Lloyd Blvd., Suite 1100, Portland, OR 97232 ATTN: Eulachon Recovery Coordinator.

• Hand delivered: National Marine Fisheries Service, 1201 NE Lloyd Blvd., Suite 1100, Portland, OR 97232 ATTN: Eulachon Recovery Coordinator. Business hours are 8 a.m. to 5 p.m. Monday through Friday, except Federal holidays.

• Via fax: 503-230-5441. Please include the following on the cover page of the fax “ATTN: Eulachon Recovery Coordinator.”

FOR FURTHER INFORMATION CONTACT: Robert Anderson, Eulachon Recovery Coordinator, (503) 231-2226.

SUPPLEMENTARY INFORMATION:

NMFS is charged with the recovery of eulachon, a species listed under the Endangered Species Act of 1973 (ESA). Recovery means that listed species and their ecosystems are restored, and their future secured, so that the protections of the ESA are no longer necessary. The ESA specifies that recovery plans must include: (1) A description of management actions necessary to achieve the plan's goals for the conservation and survival of the species; (2) objective, measurable criteria which, when met, would result in the species being removed from the list; and (3) estimates of the time and costs required to achieve the plan's goal and the intermediate steps towards that goal. Section 4(f) of the ESA, as amended in 1988, requires that public notice and an opportunity for public review and comment be provided during recovery plan development. We are soliciting relevant information on eulachon and their freshwater/marine habitats.

Such information should address the following ESA listing factors: (1) Destruction or modification of habitat; (2) overutilization for commercial, recreational, scientific, or educational purposes; (3) disease or predation; (4) inadequacy of existing regulatory mechanisms; or (5) other natural or human factors; and information on (a) strategies and/or actions to address limiting factors and threats; (b) estimates of the time and cost to implement recovery actions; (c) critical knowledge gaps and/or uncertainties that need to be resolved to better inform recovery efforts; and (d) research, monitoring and evaluation needs to address knowledge gaps and uncertainties, or to assess the species' status, limiting factors and threats relative to recovery goals. Upon completion, the proposed Recovery Plan will be available for public review and comment through the publication of a Federal Register Notice.

Preliminary Conservation Strategy

We have developed a Recovery Outline for eulachon as a preliminary conservation strategy that will guide recovery actions in a systematic, cohesive way until a recovery plan is available. The Recovery Outline may be accessed at http://www.nwr.noaa.gov/protected_species/other/eulachon_columbia_river_smelt/pacific_eulachon.html.

Authority: 16 U.S.C. 1531 et seq.

Dated: June 28, 2013.
Angela Somma,
Chief, Endangered Species Division, Office of Protected Resources, National Marine Fisheries Service.

[FR Doc. 2013-15965 Filed 7-2-13; 8:45 am]

BILLING CODE 3510-22-P